DEPARTMENT OF LABOR

Employment and Training Administration

[TA-W-71,551A]

Freescale Semiconductor, Inc., Networking and Multimedia Group (“NMG”) Excluding the Multimedia Applications Division Including On-Site Leased Workers of Synergy Services, Craftcorp, Directions Engineering Company, Netpolarity, Inc., TAC Worldwide and Manpower; Austin, TX; Amended Certification Regarding Eligibility To Apply for Worker Adjustment Assistance

In accordance with Section 223 of the Trade Act of 1974, as amended (“Act”), 19 U.S.C. 2273, the Department of Labor issued a Certification of Eligibility to Apply for Worker Adjustment Assistance on June 17, 2010, applicable to workers of Freescale Semiconductor, Inc., Networking and Multimedia Group (“NMG”), excluding the Multimedia Applications Division, including on-site workers of Synergy Services, Craftcorp, Directions Engineering Company, Netpolarity, Inc. and Tac Worldwide, Austin, Texas. The notice was published in the Federal Register on July 1, 2010 (75 FR 38141).

At the request of the petitioners, the Department reviewed the certification for workers of the subject firm. The workers are engaged in internal design and engineering services for chips used in networking and multimedia products.

The company reports that workers leased from Manpower, were employed on-site at the Austin, Texas location of Freescale Semiconductor, Inc., Networking and Multimedia Group (“NMG”), excluding the Multimedia Applications Division, including on-site workers of Synergy Services, Craftcorp, Directions Engineering Company, Netpolarity, Inc. and Tac Worldwide. The Department has determined that these workers were sufficiently under the control of the subject firm to be considered leased workers.

Based on these findings, the Department is amending this certification to include workers leased from Manpower, working on-site at the Austin, Texas location of Freescale Semiconductor, Inc., Networking and Multimedia Group (“NMG”), excluding the Multimedia Applications Division, including on-site workers of Synergy Services, Craftcorp, Directions Engineering Company, Netpolarity, Inc. and Tac Worldwide.

The amended notice applicable to TA-W-71,551A is hereby issued as follows:

“All workers of Freescale Semiconductor, Inc., Networking and Multimedia Group (“NMG”), excluding the Multimedia Applications Division, including on-site workers of Synergy Services, Craftcorp, Directions Engineering Company, Netpolarity, Inc., Tac Worldwide and Manpower, Austin, Texas, who became totally or partially separated from employment on or after July 1, 2008 through June 17, 2012, and all workers in the group threatened with total or partial separation from employment on the date of certification through two years from the date of certification, are eligible to apply for adjustment assistance under Chapter 2 of Title II of the Trade Act of 1974, as amended.”

Signed at Washington, DC, this 3rd day of August 2010.
Elliott S. Kushner,
Certifying Officer, Division of Trade Adjustment Assistance.

[FR Doc. 2010-20027 Filed 8-12-10; 8:45 am]

BILLING CODE 4510-FN-P